DEPARTMENT OF TRANSPORTATION

Coast Guard

33 CFR Part 117

[CGD01-01-195]

RIN 2115-AE47

Drawbridge Operation Regulations: New Rochelle Harbor, NY

AGENCY: Coast Guard, DOT.

ACTION: Temporary final rule.

SUMMARY: The Coast Guard is establishing temporary regulations governing the operation of the Glen Island Bridge, mile 0.8, across the New Rochelle Harbor at New Rochelle, New York. This temporary final rule allows the bridge to remain in the closed position from 7 a.m. on November 26, 2001 through 5 p.m. on April 26, 2002. This action is necessary to facilitate electrical and mechanical repairs at the bridge.

DATES: This temporary final rule is effective from November 26, 2001 through April 26, 2002.

ADDRESSES: Documents as indicated in this preamble are available for inspection or copying at the First Coast Guard District Office, 408 Atlantic Avenue, Boston, Massachusetts, 02110, 7 a.m. to 3 p.m., Monday through Friday, except Federal holidays. The telephone number is (617) 223-8364.

FOR FURTHER INFORMATION CONTACT: Mr. Joe Schmied, Project Officer, First Coast Guard District, at (212) 668-7165.

SUPPLEMENTARY INFORMATION:

Regulatory History

Pursuant to 5 U.S.C. 553, a notice of proposed rulemaking (NPRM) was not published for this regulation. Good cause exists for not publishing a notice of proposed rulemaking (NPRM). This closure is not expected to have a significant impact on navigation. Known waterway users have been notified of the closure date and none objected. Vessel traffic on New Rochelle Harbor, during the effective period of the rule, is comprised of recreational vessels only, which may use an alternate route to open water, while the bridge is in a closed position for repairs. Accordingly, an NPRM was considered unnecessary.

Moreover, the delay inherent in the NPRM process is considered contrary to the public interest. The existing electrical and mechanical equipment at the bridge was installed in 1927. The bridge owner can no longer satisfactorily maintain this equipment in reliable operable condition due to its age and the difficulty in obtaining replacement parts. The prompt commencement of the electrical and mechanical repairs is necessary to assure safe reliable operation of the bridge.

Background and Purpose

The Glen Island Bridge, mile 0.8, has a vertical clearance of 13 feet at mean high water and 20 feet at mean low water in the closed position. The current operating regulations listed at 33 CFR 117.802, require the bridge to open on signal; except that, from May 1 to October 31, midnight to 6 a.m., a two-hour advance notice is required for bridge openings and from November 1 through April 30, from 8 p.m. to 8 a.m., a twenty-four hours advance notice is required for bridge openings.

The bridge owner, Westchester Department of Public Works, requested a temporary change to the operating regulations governing the Glen Island Bridge to allow the bridge to remain in the closed position from 7 a.m. on November 26, 2001 through 5 p.m. on April 26, 2002, to facilitate electrical and mechanical repairs at the bridge.

New Rochelle Harbor is used exclusively by recreational vessels. All known recreational boating facilities and interested parties were contacted regarding this necessary closure for bridge maintenance. No objections were received. Additionally, vessels located upstream from this bridge have an alternate route to open water; therefore, this closure will not have a significant impact on vessel traffic. The Coast Guard believes this temporary final rule is reasonable and will satisfy both the needs of navigation and the bridge owner's maintenance schedule.

Regulatory Evaluation

This temporary final rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; Feb. 26, 1979). The Coast Guard expects the economic impact of this temporary final rule to be so minimal that a full Regulatory Evaluation under paragraph 10e of the regulatory policies and procedures of DOT is unnecessary. This conclusion is based on the fact that the mariners can take an alternate route during this bridge closure.

Small Entities

Under the Regulatory Flexibility Act (5 U.S.C. 601-612) we considered whether this temporary final rule would have a significant economic impact on a substantial number of small entities. “Small entities” comprises small businesses, not-for-profit organizations that are independently owned and operated and are not dominant in their fields, and governmental jurisdictions with populations less than 50,000.

The Coast Guard certifies under 5 U.S.C. 605(b) that this rule will not have a significant economic impact on a substantial number of small entities. This conclusion is based on the fact that the mariners can take an alternate route during this bridge closure.

Collection of Information

This temporary final rule does not provide for a collection of information under the Paperwork Reduction Act of 1995 (44 U.S.C. 3501 et seq.).

Federalism

The Coast Guard has analyzed this temporary final rule in accordance with the principles and criteria contained in Executive Order 12612 and has determined that this temporary final rule does not have sufficient federalism implications to warrant the preparation of a Federalism Assessment.

Environment

The Coast Guard considered the environmental impact of this temporary final rule and concluded that, under Section 2.B.2., Figure 2-1, paragraph (32)(e), of Commandant Instruction M16475.1C, this temporary final rule is categorically excluded from further environmental documentation because promulgation of changes to drawbridge regulations have been found not to have a significant effect on the environment. A written “Categorical Exclusion Determination” is not required for this temporary final rule.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From November 26, 2001, through April 26, 2002, in § 117.802, paragraph (a)(2) is suspended and paragraph (a)(3) is temporarily added to read as follows:

§ 117.802 New Rochelle Harbor.

(a) * * *

(3) The Glen Island Bridge need not open for the passage of vessel traffic from November 26, 2001, through April 26, 2002.

* * * * *

Dated: October 25, 2001.
G.N. Naccara,
Rear Admiral, U.S. Coast Guard, Commander, First Coast Guard District.

[FR Doc. 01-28370 Filed 11-13-01; 8:45 am]

BILLING CODE 4910-15-U